INTERNATIONAL TRADE COMMISSION

[Investigation No. 337-TA-1404]

Certain Surface Cleaning Devices and Components Thereof; Notice of a Commission Determination Not To Review an Initial Determination Granting a Joint Motion To Terminate the Investigation Based on Settlement; Termination of Investigation

AGENCY: U.S. International Trade Commission.

ACTION: Notice.

SUMMARY: Notice is hereby given that the U.S. International Trade Commission (“Commission”) has determined not to review an initial determination (“ID”) (Order No. 20) of the presiding administrative law judge (“ALJ”) granting a joint motion to terminate the investigation based on a settlement agreement. The investigation is terminated.

FOR FURTHER INFORMATION CONTACT: Namo Kim, Esq., Office of the General Counsel, U.S. International Trade Commission, 500 E Street SW, Washington, DC 20436, telephone (202) 205-3459. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On June 13, 2024, the Commission instituted this investigation under section 337 of the Tariff Act of 1930, as amended, 19 U.S.C. 1337 (“section 337”), based on a complaint filed by SharkNinja Operating LLC of Needham, Massachusetts; Omachron Alpha Inc. of Canada; and Omachron Intellectual Property Inc. of Canada (collectively, “Complainants”). 89 FR 50369-70 (June 13, 2024). The complaint, as supplemented, alleged violations of section 337 based upon the importation into the United States, the sale for importation, and the sale within the United States after importation of certain surface cleaning devices and components thereof by reason of the infringement of certain claims of U.S. Patent No. 7,776,120 (“the '120 patent”); U.S. Patent No. 10,219,661 (“the '661 patent”); U.S. Patent No. 11,910,983 (“the '983 patent”); and U.S. Patent No. 11,910,984 (“the '984 patent”). Id. The complaint further alleged that an industry in the United States exists or is in the process of being established. Id. The notice of investigation named as respondents Dyson, Inc. of Chicago, Illinois; Dyson Technology Limited of Tetbury Hill, United Kingdom; and Dyson Canada Limited of Toronto, Canada (collectively, “Dyson”). Id. The Office of Unfair Import Investigations is not participating in this investigation. Id.

On December 23, 2024, the Commission terminated the investigation as to claims 1, 8, 9, and 12 of the '120 patent; claims 1, 2, 9-12, 15, and 16 of the '661 patent; claims 4, 8, 12, and 17-19 of the '983 patent; and claims 3, 4, 6, 7, 9-18 of the '984 patent. Order No. 16 (Dec. 3, 2024); unreviewed by Comm'n Notice (Dec. 26, 2024).

On February 4, 2025, Complainants and Dyson filed a joint motion to terminate the investigation based on a settlement agreement. The parties represented that the settlement agreement is the only agreement between the parties concerning the subject matter of the investigation, and that termination of the investigation is consistent with public interest as it would conserve public and private resources and would have no adverse effects to the public. The joint motion included confidential and redacted copies of the subject settlement agreement.

On February 5, 2025, the ALJ issued the subject ID (Order No. 20) pursuant to Commission Rule 210.21(b) (19 CFR 210.21(b)), granting the joint motion to terminate the investigation based on settlement.

No petitions for review of the subject ID were filed.

The Commission has determined not to review the subject ID. The investigation is terminated.

The Commission vote for this determination took place on February 26, 2025.

The authority for the Commission's determination is contained in section 337 of the Tariff Act of 1930, as amended (19 U.S.C. 1337), and in Part 210 of the Commission's Rules of Practice and Procedure (19 CFR part 210).

By order of the Commission.
Issued: February 26, 2025.
Lisa Barton,
Secretary to the Commission.

[FR Doc. 2025-03385 Filed 2-28-25; 8:45 am]

BILLING CODE 7020-02-P